PENSION BENEFIT GUARANTY CORPORATION

29 CFR Part 4044

Allocation of Assets in Single-Employer Plans; Interest Assumptions for Valuing Benefits; Correction

AGENCY: Pension Benefit Guaranty Corporation.

ACTION: Correcting amendment.

SUMMARY: The Pension Benefit Guaranty Corporation published in the Federal Register of December 29, 2008, a final rule amending its regulation on Allocation of Assets in Single-Employer Plans to adopt interest assumptions for plans with valuation dates in the first quarter of 2009. This document corrects inadvertent errors in that final rule.

DATES: Effective January 8, 2009.

Applicability date: January 1, 2009.

FOR FURTHER INFORMATION CONTACT: Catherine B. Klion, Attorney, Legislative and Regulatory Department, Pension Benefit Guaranty Corporation, 1200 K Street, NW., Washington, DC 20005, 202-326-4024. (TTY/TDD users may call the Federal relay service toll-free at 1-800-877-8339 and ask to be connected to 202-326-4024.)

SUPPLEMENTARY INFORMATION: The Pension Benefit Guaranty Corporation published a document in the December 29, 2008, Federal Register (73 FR 79362), amending its regulation on Allocation of Assets in Single-Employer Plans (29 CFR part 4044) to adopt interest assumptions for plans with valuation dates in the first quarter of 2009. This document corrects inadvertent errors in the January, February, and March 2009 entries to Appendix B to part 4044. (There were no corresponding errors in the preamble to the document.)

List of Subjects in 29 CFR Part 4044

Employee benefit plans, Pension insurance, Pensions.

Accordingly 29 CFR part 4044 is corrected by making the following correcting amendments:

PART 4044—ALLOCATION OF ASSETS IN SINGLE-EMPLOYER PLANS

1. The authority citation for part 4044 continues to read as follows:

Authority: 29 U.S.C. 1301(a), 1302(b)(3), 1341, 1344, 1362.

2. In appendix B to part 4044, correct the entries for January, February, and March 2009, as set forth below, to read as follows:

Appendix B to Part 4044—Interest Rates Used to Value Benefits

* * * * *

For valuation dates occurring in the month— | The values of it are:: it | The values of it are:: for t = | The values of it are:: it | The values of it are:: for t = | The values of it are:: it | The values of it are:: for t =
* * * * * * *
January 2009 | 0.0602 | 1-20 | 0.0548 | >20 | N/A | N/A
February 2009 | 0.0602 | 1-20 | 0.0548 | >20 | N/A | N/A
March 2009 | 0.0602 | 1-20 | 0.0548 | >20 | N/A | N/A

Issued in Washington, DC, on this 5th day of January 2009.
Vincent K. Snowbarger,
Deputy Director for Operations, Pension Benefit Guaranty Corporation.

[FR Doc. E9-141 Filed 1-7-09; 8:45 am]

BILLING CODE 7709-01-P